DEPARTMENT OF HOMELAND SECURITY

U.S. Customs and Border Protection

DEPARTMENT OF THE TREASURY

19 CFR Parts 102 and 177

[USCBP-2021-0025]

RIN 1515-AE63

Non-Preferential Origin Determinations for Merchandise Imported From Canada or Mexico for Implementation of the Agreement Between the United States of America, the United Mexican States, and Canada (USMCA)

AGENCY: U.S. Customs and Border Protection, Department of Homeland Security; Department of the Treasury.

ACTION: Notice of proposed rulemaking; extension of comment period.

SUMMARY: This document provides additional time for interested parties to submit comments on the proposed rule published in the Federal Register on July 6, 2021, to amend the U.S. Customs and Border Protection (CBP) regulations regarding non-preferential origin determinations for merchandise imported from Canada or Mexico. Based on a request from the public to provide additional time to prepare comments on the proposed rule, CBP is extending the comment period to September 7, 2021.

DATES: The comment period for the proposed rule published July 6, 2021 (86 FR 35422), is extended. Comments must be received on or before September 7, 2021.

ADDRESSES: You may submit comments, identified by docket number USCBP-2021-0025 by one of the following methods:

• Federal eRulemaking Portal at http://www.regulations.gov. Follow the instructions for submitting comments.

• Mail: Due to COVID-19-related restrictions, CBP has temporarily suspended its ability to receive public comments by mail.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Due to the relevant COVID-19-related restrictions, CBP has temporarily suspended on-site public inspection of the public comments.

FOR FURTHER INFORMATION CONTACT: Operational Aspects: Queena Fan, Director, USMCA Center, Office of Trade, U.S. Customs and Border Protection, (202) 738-8946 or usmca@cbp.dhs.gov.

Legal Aspects: Craig T. Clark, Director, Commercial and Trade Facilitation Division, Regulations and Rulings, Office of Trade, U.S. Customs and Border Protection, (202) 325-0276 or craig.t.clark@cbp.dhs.gov.

SUPPLEMENTARY INFORMATION:

I. Public Participation

Interested persons are invited to participate in this rulemaking by submitting written data, views, or arguments on all aspects of the proposed rule. U.S. Customs and Border Protection (CBP) also invites comments that relate to the economic, environmental, or federalism effects that might result from this proposed rule. Comments that will provide the most assistance to CBP will reference a specific portion of the proposed rule, explain the reason for any recommended change, and include data, information or authority that support such recommended change.

II. Background

On July 6, 2021, U.S. Customs and Border Protection (CBP) published a document in the Federal Register (86 FR 35422), that proposes to amend the CBP regulations regarding non-preferential origin determinations for merchandise imported from Canada or Mexico. The document solicited public comments on the proposed rule and requested that commenters submit their comments on or before August 5, 2021.

Extension of Comment Period

In response to the proposed rule published in the Federal Register, CBP has received correspondence from the public requesting an extension of the comment period for 30 days. CBP has decided to grant the extension. Accordingly, the comment period for the proposed rule is extended to September 7, 2021.

Dated: August 2, 2021.
Alice A. Kipel,
Executive Director, Regulations and Rulings, Office of Trade, U.S. Customs and Border Protection.

[FR Doc. 2021-16753 Filed 8-4-21; 8:45 am]

BILLING CODE 9111-14-P